Notice of January 13, 2017

Continuation of the National Emergency With Respect to Cuba and of the Emergency Authority Relating to the Regulation of the Anchorage and Movement of Vessels

On February 25, 2016, by Proclamation 9398, the national emergency with respect to Cuba was modified and continued to reflect the re-establishment of diplomatic relations between the United States and Cuba. The unauthorized entry of any U.S.-registered vessel into Cuban territorial waters continues to be detrimental to the foreign policy of the United States. Therefore, in accordance with section 202(d) of the National Emergencies Act (50 U.S.C. 1622(d)), I am continuing the national emergency with respect to Cuba and the emergency authority relating to the regulation of the anchorage and movement of vessels set out in Proclamation 6867 as amended by Proclamation 7757 and as further modified by Proclamation 9398.

This notice shall be published in the Federal Register and transmitted to the Congress.

THE WHITE HOUSE,

January 13, 2017.

[FR Doc. 2017-01366

Filed 1-18-17; 8:45 am]

Billing code 3295-F7-P